NUCLEAR REGULATORY COMMISSION

[NRC-2021-0091]

Use of Plant Parameter Envelope in Early Site Permit Applications

AGENCY: Nuclear Regulatory Commission.

ACTION: Draft regulatory guide; request for comment.

SUMMARY: The U.S. Nuclear Regulatory Commission (NRC) is issuing for public comment a draft regulatory guide (DG), DG-4029, “Use of Plant Parameter Envelope in Early Site Permit Applications.” DG-4029 is a new regulatory guide that proposes guidance for nuclear power plant applicants that elect to use the plant parameter envelope (PPE) concept to assume certain design parameters for an early site permit (ESP) application when a specific reactor technology has not been selected for a proposed site. It incorporates the PPE portions of NRC Review Standard (RS)-002, “Processing Applications for Early Site Permits.” The issuance of this DG allows the NRC staff to withdraw the outdated guidance in RS-002 while retaining the PPE information in it for future use by prospective ESP applicants.

DATES: Submit comments by August 9, 2021. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods, however, the NRC encourages electronic comment submission through the Federal Rulemaking Website:

• Federal Rulemaking Website: Go to https://www.regulations.gov and search for Docket ID NRC-2021-0091. Address questions about Docket IDs in Regulations.gov to Stacy Schumann; telephone: 301-415-0624; email: Stacy.Shumann@nrc.gov. For technical questions, contact the individuals listed in the FOR FURTHER INFORMATION CONTACT section of this document.

• Mail comments to: Office of Administration, Mail Stop: TWFN-7-A60M, U.S. Nuclear Regulatory Commission, Washington, DC 20555-0001, ATTN: Program Management, Announcements, and Editing Staff.

For additional direction on obtaining information and submitting comments, see “Obtaining Information and Submitting Comments” in the SUPPLEMENTARY INFORMATION section of this document.

FOR FURTHER INFORMATION CONTACT: Edward O'Donnell, Office of Nuclear Regulatory Research, telephone: 301-415-3317, email: Edward.ODonnell@nrc.gov and Luissette Candelario, Office of Nuclear Reactor Regulation, telephone: 301-415-8189, email: Luissette.Candelario@nrc.gov. Both are staff of the U. S. Nuclear Regulatory Commission, Washington, DC 20555-0001.

SUPPLEMENTARY INFORMATION:

I. Obtaining Information and Submitting Comments

A. Obtaining Information

Please refer to Docket ID NRC-2021-0091 when contacting the NRC about the availability of information for this action. You may obtain publicly available information related to this action by any of the following methods:

• Federal Rulemaking Website: Go to https://www.regulations.gov and search for Docket ID NRC-2021-0091.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. DG-4029, “Use of the Plant Parameter Envelope in Early Site Permit Applications” is available in ADAMS under Accession No. ML21049A181.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

B. Submitting Comments

The NRC encourages electronic comment submission through the Federal Rulemaking website (https://www.regulations.gov). Please include Docket ID NRC-2021-0091 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Additional Information

The NRC is issuing for public comment a draft guide in the NRC's “Regulatory Guide” series. This series was developed to describe methods that are acceptable to the NRC staff for implementing specific parts of the agency's regulations, to explain techniques that the staff uses in evaluating specific issues or postulated events, and to describe information that the staff needs in its review of applications for permits and licenses.

The issuance of this DG allows the NRC staff to withdraw the outdated guidance in RS-002 while retaining the PPE information in DG-4029 for future use by prospective ESP applicants. Therefore, NRC staff is withdrawing RS-002 in conjunction with the issuance of DG-4029.

The DG, entitled, “Use of Plant Parameter Envelope in Early Site Permit Applications” is a proposed new guide temporarily identified by its task number, DG-4029. It proposes guidance for ESP applicants that elect to use the PPE concept to postulate certain design parameters when a specific reactor technology has not been selected for a proposed site. The guide incorporates the guidance on PPE found in NRC's Office of Nuclear Reactor Regulation RS-002, “Processing Applications for Early Site Permits,” (ADAMS Accession No. ML040700236). Subsequent to issuance of RS-002 in 2004, many sections of it have been superseded and do not fully reflect the NRC's implementation of a risk-informed, performance-based approach to licensing. The issuance of this DG allows the NRC staff to withdraw the outdated guidance in RS-002 while retaining the PPE information for future use by prospective ESP applicants.

The staff is also issuing for public comment a regulatory analysis (ADAMS Accession No. ML21049A182). The staff develops a regulatory analysis to assess the value of issuing or revising a regulatory guide as well as alternative courses of action. The analysis provides the public with an insight in how the NRC arrives at a regulatory decision.

III. Backfitting, Forward Fitting, and Issue Finality

Issuance of DG-4029, if finalized, would not constitute backfitting as that term is defined in section 50.109 of title 10 of the Code of Federal Regulations (10 CFR) section, “Backfitting,” and as described in NRC Management Directive (MD) 8.4, “Management of Backfitting, Forward Fitting, Issue Finality, and Information Requests”; constitute forward fitting as that term is defined and described in MD 8.4; or affect issue finality of any approval issued under 10 CFR part 52, “Licenses, Certificates, and Approvals for Nuclear Power Plants.” As explained in DG-4029, applicants and licensees are not required to comply with the positions set forth in DG-4029.

Dated: June 16, 2021.
For the Nuclear Regulatory Commission.
Meraj Rahimi,
Chief, Regulatory Guidance and Project Management Branch, Division of Engineering, Office of Nuclear Regulatory Research.

[FR Doc. 2021-13472 Filed 6-23-21; 8:45 am]

BILLING CODE 7590-01-P